DEPARTMENT OF COMMERCE

International Trade Administration

A-588-804

Ball Bearings and Parts Thereof from Japan: Amended Final Results of Antidumping Duty Administrative Review Pursuant to Final Court Decision

AGENCY: Import Administration, International Trade Administration, Department of Commerce.

SUMMARY: On August 30, 2002, the Department of Commerce (the Department) published Ball Bearings and Parts Thereof from France, Germany, Italy, Japan, and the United Kingdom; Final Results of Antidumping Duty Administrative Reviews, 67 FR 55780 (August 30, 2002), as amended on October 15, 2002, by Ball Bearings and Parts Thereof From Japan; Amended Final Results of Antidumping Duty Administrative Review, 67 FR 63608 (October 15, 2002). The review covered the period May 1, 2000, through April 30, 2001. NTN Corporation (and its affiliates) and other parties appealed the results pertaining to subject merchandise from Japan. Because there is now a final and conclusive decision, the Department is issuing these amended final results of review. We will instruct U.S. Customs and Border Protection (CBP) to liquidate entries subject to these amended final results of review.

EFFECTIVE DATE: March 24, 2008.

FOR FURTHER INFORMATION CONTACT: FOR FURTHER INFORMATION: Catherine Cartsos or Richard Rimlinger, AD/CVD Operations, Office 5, Import Administration, U.S. Department of Commerce, 14th Street and Constitution Avenue, NW, Washington, DC 20230; telephone: (202) 482-1757 or (202) 482-4477, respectively.

SUPPLEMENTARY INFORMATION: SUPPLEMENTAL INFORMATION:

Background

On August 30, 2002, the Department published the final results of administrative reviews of the antidumping duty order on ball bearings and parts thereof from Japan for the period May 1, 2000, through April 30, 2001. See Ball Bearings and Parts Thereof from France, Germany, Italy, Japan, and the United Kingdom; Final Results of Antidumping Duty Administrative Reviews, 67 FR 55780 (August 30, 2002) (AFBs 12). On October 15, 2002, the Department amended the final results. See Ball Bearings and Parts Thereof From Japan; Amended Final Results of Antidumping Duty Administrative Review, 67 FR 63608 (October 15, 2002) (Amended AFBs 12). NTN Corp., NTN Bearing Corp. of America, American NTN Bearing Manufacturing Corp., NTN Driveshaft, and NTN-BCA Corp. (collectively NTN) filed a lawsuit challenging the final results of AFBs 12 as amended by Amended AFBs 12.

On August 20, 2004, the United States Court of International Trade (CIT) affirmed the Department’s final results in part and remanded the review to the Department in part to correct certain ministerial errors concerning the treatment of NTN’s freight and warehouse expenses. See NSK Ltd. v. United States, 346 F. Supp. 2d 1312 (CIT 2004) (NSK Ltd.). Specifically, the CIT directed the Department to exclude NTN’s export-price sales from the calculation of NTN’s U.S. freight and warehouse expenses.¹ In accordance with the CIT’s remand order in NSK Ltd., the Department filed its remand results on October 19, 2004. In those remand results, the Department excluded export-price sales from the calculation of U.S. freight and warehouse expenses and recalculated NTN’s margin accordingly.

On January 27, 2005, the CIT sustained the Department’s final results of redetermination. See NSK Ltd. v. United States, 358 F. Supp. 2d 1313 (CIT 2005). NTN appealed the portion of the CIT’s decision in which it sustained the Department’s use of facts otherwise available and adverse inferences when determining NTN’s antidumping duty margin. NTN did not appeal the CIT’s decision with respect to the remand determination.

On March 7, 2007, the United States Court of Appeals for the Federal Circuit (CAFC) affirmed the CIT’s decision. See NSK Ltd. v. United States, 481 F.3d 1355 (CAFC 2007). On May 3, 2007, the CAFC denied a rehearing request.

On July 11, 2007, the Department published amended final results pertaining to NTN for the period May 1, 2000, through April 30, 2001. See Ball Bearings and Parts Thereof from Japan: Amended Final Results of Antidumping Duty Administrative Review, 72 FR 37702 (July 11, 2007) (Second Amended Final Results). Because the Department published the Second Amended Final Results mistakenly before a final and conclusive court decision, on July 23, 2007, the Department rescinded the Second Amended Final Results. See Ball Bearings and Parts Thereof from Japan: Rescission of Amended Final Results of Antidumping Duty Administrative Review, 72 FR 40113 (July 23, 2007).

On September 28, 2007, NTN filed a petition for a writ of certiorari with the United States Supreme Court in connection with the final results of the 2000-2001 administrative review of the antidumping duty order on ball bearings and parts thereof from Japan. The two issues NTN raised in its petition for a writ of certiorari were the Department’s treatment of non-dumped sales and the Department’s use of facts otherwise available and adverse inferences when determining NTN’s antidumping duty margin.

On January 22, 2008, the United States Supreme Court denied NTN’s petition for a writ of certiorari. Therefore, there is now a final and conclusive court decision in this case.

Amendment to Final Results

We are now amending the final results of this review to reflect the final and conclusive decision of the CIT. Our revised calculations for NTN changed the weighted-average margin for ball bearings and parts thereof from Japan from 9.34 percent to 9.30 percent for the period May 1, 2000, through April 30, 2001. The Department will instruct CBP to liquidate entries of subject merchandise from Japan from NTN during the review period in accordance with these amended final results of review. We intend to issue the assessment instructions to CBP 15 days after the date of publication of these amended final results of review.

We are issuing and publishing this notice in accordance with sections 751(a)(1) and 777(i)(1) of the Act.

Dated: March 17, 2008.
David M. Spooner,
Assistant Secretary for Import Administration.

1. NSK Ltd., NSK Corp., NSK Bearings Europe, MPB Corp., 3Asahi Seiko Co., and Isuzu Motors, Ltd., also appealed the Department’s determination but the dumping margins the Department had calculated for the period of review did not change as a result of the litigation.

[FR Doc. E8-5886 Filed 3-21-08; 8:45 am]

BILLING CODE 3510-DS-S